DEPARTMENT OF THE INTERIOR

Bureau of Land Management

[15X.LLID9570000.L14400000.BJ0000.241A.4500078174]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: This survey were executed at the request of the Bureau of Land Management to meet their administrative needs. The lands surveyed are: The plat constituting the entire survey record of the dependent resurvey of a portion of the subdivisional lines, and a corrective dependent resurvey of a portion of metes-and-bounds survey No. 1, in sections 25, 26, 35, and 36, T. 4 S., R. 19 E., Boise Meridian, Idaho, Group Number 985, was accepted January 15, 2015.

The plat constituting the entire survey record of the dependent resurvey of a portion of the subdivisional lines, and the subdivision of section 26, T. 5 S., R. 17 E., Boise Meridian, Idaho, Group Number 1400, was accepted January 15, 2015.

The plats constituting the entire survey record of: The dependent resurvey of portions of the west boundary and subdivisional lines, T. 8 S., R. 3 W., Boise Meridian, Idaho, Group Number 1367; the dependent resurvey of portions of the north boundary and subdivisional lines, and the subdivision of section 3, T. 9 S., R. 4 W., Boise Meridian, Idaho, Group Number 1367; the dependent resurvey of portions of the south and west boundaries, and subdivisional lines, and the subdivision of sections 27 and 31, T. 9 S., R. 5 W., Boise Meridian, Idaho, Group Number 1367; the dependent resurvey of portions of the north boundary, west boundary, and subdivisional lines, and the subdivision of sections 4 and 6, T. 10 S., R. 3 W., Boise Meridian, Idaho, Group Number 1367; and the dependent resurvey of portions of the east and west boundaries, and subdivisional lines, and the subdivision of sections 1 and 3, T. 10 S., R. 5 W., Boise Meridian, Idaho, Group Number 1367, were approved January 23, 2015.

These surveys were executed at the request of the Bureau of Indian Affairs to meet certain administrative and management purposes. The lands surveyed are: The plat representing the dependent resurvey of portions of the east boundary, subdivisional lines, and subdivision of sections 11 and 14, and the subdivision of section 13, and further subdivision of sections 11 and 14, T. 34 N., R. 4 W., Boise Meridian, Idaho, Group Number 1404, was accepted February 11, 2015.

The plat representing the dependent resurvey of portions of the subdivisional lines and subdivision of section 26, and further subdivision of section 26, T. 33 N., R. 1 E., of the Boise Meridian, Idaho, Group Number 1403, was accepted February 19, 2015.

Stanley G. French,
Chief Cadastral Surveyor for Idaho.

[FR Doc. 2015-08249 Filed 4-9-15; 8:45 am]

BILLING CODE 4310-GG-P